FEDERAL COMMUNICATIONS COMMISSION

47 CFR Part 73

[MB Docket No. 17-187, RM-11792; DA 17-1062]

Television Broadcasting Services; Anchorage, Alaska

AGENCY: Federal Communications Commission.

ACTION: Final rule, correction.

SUMMARY: The Federal Communications Commission published a document in the Federal Register of November 17, 2017, concerning the Commission's grant of the request by Gray Television License, LLC (Gray) to substitute channel 7 for channel 5 for station KYES-TV, Anchorage, Alaska. The document contained the incorrect effective date.

DATES: This rule is effective December 7, 2017.

FOR FURTHER INFORMATION CONTACT: Joyce Bernstein, Joyce.Bernstein@fcc.gov, Media Bureau, (202) 418-1647.

Correction

In the Federal Register of November 17, 2017, in FR Doc. 2017-24944, on page 54301, in the second column, correct the DATES caption to read:

DATES: This rule is effective December 7, 2017.

Federal Communications Commission.
Barbara A. Kreisman,
Chief, Video Division, Media Bureau.

[FR Doc. 2017-26312 Filed 12-6-17; 8:45 am]

BILLING CODE 6712-01-P